DEPARTMENT OF ENERGY

Federal Energy Regulatory Commission

18 CFR Part 40

Docket No. RM08-13-000

Transmission Relay Loadability Reliability Standard; Notice of Extension of Time

July 13, 2009.

AGENCY: Federal Energy Regulatory Commission.

ACTION: Notice of proposed rulemaking: extension of comment period.

SUMMARY: On May 21, 2009, the Federal Energy Regulatory Commission issued a Notice of Proposed Rulemaking proposing to approve Reliability Standard PRC-023-1 (Transmission Relay Loadability Reliability Standard) developed by the North American Electric Reliability Corporation. The date for filing comments on the Commission's NOPR is being extended at the request of the American Public Power Association, Edison Electric Institute, the Electric Power Supply Association and the National Rural Electric Cooperative Association.

DATES: Comments are due on or before August 17, 2009.

ADDRESSES: Interested persons may submit comments, identified by Docket No. RM08-13-000, by any of the following methods:

• Agency Web site: http://www.ferc.gov: Documents created electronically using word processing software should be filed in native applications or print-to-PDF format and not in a scanned format.

• Mail/Hand Delivery: Commenters unable to file comments electronically must mail or hand deliver an original and 14 copies of their comments to: Federal Energy Regulatory Commission, Secretary of the Commission, 888 First Street, NE., Washington, DC 20426.

FOR FURTHER INFORMATION CONTACT:

Joshua Konecni (Legal Information), Office of the General Counsel, Federal Energy Regulatory Commission, 888 First Street, NE., Washington, DC 20426, (202) 502-6291.

Michael Henry (Legal Information), Office of the General Counsel, Federal Energy Regulatory Commission, 888 First Street, NE., Washington, DC 20426, (202) 502-8532.

Cynthia Pointer (Technical Information), Office of Electric Reliability, Division of Reliability Standards, Federal Energy Regulatory Commission, 888 First Street, NE., Washington, DC 20426, (202) 502-6069.

Robert Snow (Technical Information), Office of Electric Reliability, Division of Reliability Standards, Federal Energy Regulatory Commission, 888 First Street, NE., Washington, DC 20426, (202) 502-6716.

SUPPLEMENTARY INFORMATION:

Transmission Relay Loadability Reliability Standard; Notice of Extension of Time

On July 9, 2009, the American Public Power Association, Edison Electric Institute, the Electric Power Supply Association, and the National Rural Electric Cooperative Association (Movants), on behalf of their respective member utilities, filed a motion for an extension of time to file comments in response to the Commission's Notice of Proposed Rulemaking issued May 21, 2009, in the above-referenced proceeding. Transmission Relay Loadability Reliability Standard, 127 FERC ¶ 61,175 (2009) (May 21 NOPR). The motion states that because the Commission's May 21 NOPR raises many new technical and policy issues, the Movants require additional time to conduct member company consultations and to prepare reasoned comments.

Upon consideration, notice is hereby given that an extension of time for filing comments on the May 21 NOPR is granted to and including August 17, 2009.

Kimberly D. Bose,
Secretary.

[FR Doc. E9-17235 Filed 7-20-09; 8:45 am]

BILLING CODE P